DEPARTMENT OF ENERGY

Federal Energy Regulatory Commission

[Docket No. AD06-8-000]

Discussions With Utility and Railroad Representatives on Market and Reliability Matters; Second Notice and Program for the Discussions

June 6, 2006.

As announced on May 30, 2006, the Federal Energy Regulatory Commission (FERC) will meet with utility and railroad representatives to discuss railroad coal-delivery matters and their impact on markets and electric reliability. The meeting is scheduled for June 15, 2006, in the Commission Meeting Room (Room 2C) at 888 First Street NE., Washington, DC 20426 at or around 1 p.m. (EDT) and will conclude in mid-afternoon. (The starting time may be delayed by the Open Commission Meeting taking place that morning.)

The purpose of the meeting is to examine concerns raised by certain electric utility associations with respect to coal inventories at power stations and rail coal deliveries to their member companies. These claims raise serious questions about the adequacy of electricity supply in certain regions of the country as we enter the summer months. These discussions are intended to assist the Commission in understanding better the jurisdictional implications, if any, of this issue. This meeting was requested in two letters recently sent to the Commission by American Public Power Association, National Rural Electric Cooperative Association, Edison Electric Institute, and Electric Power Supply Association. The letters and a response by the Association of American Railroads can be found in eLibrary at http://www.ferc.gov under Docket No. AD06-8-000.

Following is the program for the discussions:

1—Welcome by Chairman Joseph Kelliher.

1:10—Presentations by the Electric Utilities.

• Glenn English, Chief Executive Officer, National Rural Electric Cooperative Association.

• Alan H. Richardson, President and Chief Executive Officer, American Public Power Association.

• William Mohl, Vice President, Commercial Operations, Entergy (on behalf of Edison Electric Institute).

• John E. Shelk, President and Chief Executive Officer, Electric Power Supply Association.

1:40—Presentations by the Railroad Companies.

• Edward R. Hamberger, President and Chief Executive Officer, Association of American Railroads.

• Carl R. Ice, Executive Vice President and Chief Operating Officer, Burlington Northern Santa Fe Corporation.

• Chris Jenkins, Senior Vice President, Coal Service Group, CSX Transportation.

2:10—Questions and discussion.

3—Closing remarks.

All interested persons are invited to attend. There is no pre-registration and there is no fee to attend this meeting.

A free webcast of this event is available through http://www.ferc.gov. Anyone with Internet access who desires to view this event can do so by navigating to http://www.ferc.gov's Calendar of Events and locating this event in the Calendar. The event will contain a link to its webcast. The Capitol Connection provides technical support for the webcasts and offers access to the meeting via phone bridge for a fee. If you have any questions, visit http://www.CapitolConnection.org or contact Danelle Perkowski or David Reininger at 703-993-3100.

As mentioned in the May 30 Notice, a transcript of the meeting will be available immediately for a fee from Ace Reporting Company (202-347-3700 or 1-800-336-6646). It will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Questions about the meeting should be directed to Saida Shaalan at Saida.Shaalan@ferc.gov or 202-502-8278.

Magalie R. Salas,
Secretary.

[FR Doc. E6-9107 Filed 6-9-06; 8:45 am]

BILLING CODE 6717-01-P